DEPARTMENT OF COMMERCE

International Trade Administration

William S. Middleton VA Hospital, et al., Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 A.M. and 5:00 P.M. in Room 3705, U.S. Department of Commerce, 14th and Constitution Avenue., NW, Washington, D.C.

Docket Number: 09-004. Applicant: William S. Middleton Veterans Administration Hospital, Madison, WI 53706. Instrument: Electron Microscope, Model H-760-III. Manufacturer: Hitachi High Technologies Corporation, Japan. Intended Use: See notice at 74 FR 11527, March 18, 2009.

Docket Number: 09-006. Applicant: Bergen County Technical Schools/Bergen County Academies, Hackensack, NJ 07601. Instrument: Transmission Electron Microscope, Model JEM-2100. Manufacturer: JEOL, Ltd., Japan. Intended Use: See notice at 74 FR 11527, March 18, 2009.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: April 23, 2009.
Christopher Cassel,
Acting Director, Subsidies Enforcement Office, Import Administration.

[FR Doc. E9-9810 Filed 4-28-09; 8:45 am]

BILLING CODE 3510-DS-S